DEPARTMENT OF ENERGY

Federal Energy Regulatory Commission

[Docket No. EC01-14-000]

California Independent System Operator Corp.; Notice of Filing

November 15, 2000.

Take notice that on November 1, 2000, the California Independent System Operator Corporation (ISO) tendered for filing an application seeking authorization for the transfer of Operational Control from the City of Vernon, California (Vernon), to the ISO of Vernon's interests in certain transmission facilities pursuant to Section 203 of the Federal Power Act.

The ISO states that this filing has been served upon Vernon, the Public Utilities Commission of California, the California Energy Commission, the California Electricity Oversight Board, and all parties with effective Scheduling Coordinator Service Agreements under the ISO Tariff.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before November 22, 2000. Pprotest will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29688 Filed 11-10-00; 8:45 am]

BILLING CODE 6717-01-M